DEPARTMENT OF DEFENSE

Office of the Secretary

[Docket ID DOD-2012-OS-0010]

Privacy Act of 1974; System of Records

AGENCY: U.S. Central Command, DoD.

ACTION: Notice to Amend a System of Records.

SUMMARY: The U.S. Central Command is amending a system of records notice in its existing inventory of record systems subject to the Privacy Act of 1974 (5 U.S.C. 552a), as amended.

DATES: This proposed action will be effective on February 27, 2012 unless comments are received which result in a contrary determination.

ADDRESSES: You may submit comments, identified by docket number and title, by any of the following methods:

* Federal Rulemaking Portal: http://www.regulations.gov.

Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Evlyn Hearne, USCENTCOM CCJ6-RDF, 7115 South Boundary Blvd., MacDill AFB, FL 33621-5101 or at (813) 827-7482.

SUPPLEMENTARY INFORMATION: The U.S. Central Command systems of records notices subject to the Privacy Act of 1974 (5 U.S.C. 552a), as amended, have been published in the Federal Register and are available from the address in FOR FURTHER INFORMATION CONTACT.

The U.S. Central Command proposes to amend one system of records notice from its inventory of record systems subject to the Privacy Act of 1974 (5 U.S.C. 552a), as amended. The proposed amendment is not within the purview of subsection (r) of the Privacy Act of 1974 (5 U.S.C. 552a), as amended, which requires the submission of a new or altered system report.

Dated: January 23, 2012.
Aaron Siegel,
Alternate OSD Federal Register Liaison Officer, Department of Defense.

DPR 41 DoD

System name:

Combined Mild Traumatic Brain Injury Registry (September 30, 2010, 75 FR 60431).

Changes:

Change system ID to read “FCENTCOM 01”.

* * * * *

[FR Doc. 2012-1615 Filed 1-25-12; 8:45 am]

BILLING CODE 5001-06-P